NATIONAL LABOR RELATIONS BOARD

Privacy Act of 1974; Consolidation of National Labor Relations Board Systems of Records

AGENCY: National Labor Relations Board.

ACTION: Notification of the consolidation of six Privacy Act systems of records notices into one notice: Next Generation Case Management System (NxGen) (NLRB-33).

SUMMARY: Pursuant to the provisions of the Privacy Act of 1974, 5 U.S.C. 552a, the National Labor Relations Board is giving notice that it has consolidated the following Privacy Act systems of records notices: Judicial Case Management System—Pending Case List (JCMS-PCL) and Associated Headquarters Files (NLRB-21); Judicial Case Management System—eRoom (JCMS-eRoom) (NLRB-22); Solicitor's System (SOL) and Associated Headquarters Files (NLRB-23); Case Activity Tracking System (CATS) and Associated Regional Office Files (NLRB-25); Regional Advice and Injunction Litigation System (RAILS) and Associated Headquarters Files (NLRB-28); and Appeals Case Tracking System (ACTS) and Associated Headquarters Files (NLRB-30). These systems are now consolidated into the Agency's single enterprise case management system: Next Generation Case Management System (NxGen) (NLRB-33). NxGen stores electronic case tracking information and associated electronic case files, permitting the accurate and timely collection, retrieval, and retention of information maintained by offices of the Agency, regarding those offices' handling of matters before them, including unfair labor practice and representation cases. Other than JCMS-eRoom (NLRB-22), the legacy systems have associated paper files, which are now associated with NxGen. The legacy systems remain accessible, but no additional, unique information is being added to them.

At this time, information described in the legacy systems of records notices remains applicable to information contained in NxGen, including routine uses and exemptions asserted (systems notices previously published at 71 FR 74941 (Dec. 13, 2006)). Upon the integration of additional Agency electronic systems into NxGen, the Agency will re-publish a new Privacy Act system of records notice for NxGen.

DATES: Effective Date: Upon publication in the Federal Register.

FOR FURTHER INFORMATION CONTACT: Senior Agency Official for Privacy, National Labor Relations Board, Room 7620, 1099 14th Street NW., Washington, DC 20570-0001, (202) 273-2555.

Dated: January 26, 2012.
Lester A. Heltzer,
Executive Secretary.

[FR Doc. 2012-2137 Filed 1-31-12; 8:45 am]

BILLING CODE 7545-01-P